DEPARTMENT OF AGRICULTURE

Forest Service

Lyon-Mineral Resource Advisory Committee

AGENCY: Forest Service, USDA.

ACTION: Notice of meeting.

SUMMARY: The Lyon-Mineral Resource Advisory Committee will meet in Hawthorne, NV. The committee is authorized under the Secure Rural Schools and Community Self-Determination Act (Pub. L. 110-343) (the Act) and operates in compliance with the Federal Advisory Committee Act. The purpose of the committee is to improve collaborative relationships and to provide advice and recommendations to the Forest Service concerning projects and funding consistent with the title II of the Act. The meeting is open to the public. The purpose of the meeting is to review project proposals that were submitted by the June 3, 2011 deadline and vote to determine which projects will be recommended for funding.

DATE: The meeting will be held August 10, 2011, 9 a.m.

ADDRESSES: The meeting will be held at the Mineral County Library, located at 110 1st Street, Hawthorne, NV 89415. Written comments may be submitted as described under SUPPLEMENTARY INFORMATION.

All comments, including names and addresses when provided, are placed in the record and are available for public inspection and copying. The public may inspect comments received at Bridgeport Ranger Station, Bridgeport, CA. Please call ahead to 760-932-5853 to facilitate entry into the building to view comments.

FOR FURTHER INFORMATION CONTACT: Sherri Lisius, RAC Coordinator, Bridgeport Ranger District, 760-932-5853, sherrilisius@fs.fed.us.

Individuals who use telecommunication devices for the deaf (TDD) may call the Federal Information Relay Service (FIRS) at 1-800-877-8339 between 8 a.m. and 8 p.m., Eastern Standard Time, Monday through Friday. Requests for reasonable accomodation for access to the facility or procedings may be made by contacting the person listed FOR FURTHER INFORMATION CONTACT.

SUPPLEMENTARY INFORMATION: The following business will be conducted: Acceptance of notes from 07/22/11 meeting, review of and vote on projects, and public comments. A full agenda may be found at https://fsplaces.fs.fed.us/fsfiles/unit/wo/secure_rural_schools.nsf, by selecting the Lyon-Mineral RAC at the bottom of the webpage. Anyone who would like to bring related matters to the attention of the committee may file written statements with the committee staff before or after the meeting. The agenda will include time for people to make oral statements of three minutes or less. Individuals wishing to make an oral statement should request in writing by August 3, 2011 to be scheduled on the agenda. Written comments and requests for time for oral comments must be sent to Sherri Lisius, Forest Service, HC 62 Box 1000, Bridgeport, CA 93517, or by e-mail to sherrilisius@fs.fed.us, or via facsimile to 760-932-5899.

Dated: July 13, 2011.
Jeanne M. Higgins,
Forest Supervisor, Humboldt-Toiyabe National Forest.

[FR Doc. 2011-18233 Filed 7-19-11; 8:45 am]

BILLING CODE 3410-11-P